FEDERAL COMMUNICATIONS COMMISSION

[CC Docket No. 92-237; DA 00-993]

Next Meeting of the North American Numbering Council

AGENCY: Federal Communications Commission.

ACTION: Notice.

SUMMARY: On May 5, 2000, the Commission released a public notice announcing the May 23 and 24, 2000, meeting and agenda of the North American Numbering Council (NANC). The intended effect of this action is to make the public aware of the NANC's next meeting and its agenda.

FOR FURTHER INFORMATION CONTACT: Jeannie Grimes at (202) 418-2320 or jgrimes@fcc.gov. The address is: Network Services Division, Common Carrier Bureau, Federal Communications Commission, The Portals, 445 12th Street, SW., Suite 6A320, Washington, DC 20554. The fax number is: (202) 418-2345. The TTY number is: (202) 418-0484.

DATES: Released: May 5, 2000.

The North American Numbering Council (NANC) has scheduled a meeting to be held Tuesday, May 23, 2000, from 8:30 a.m. until 5:00 p.m., and on Wednesday, May 24, from 8:30 a.m. until 12 noon. The meeting will be held at the Federal Communications Commission, Portals II, 445 12th Street, SW., Room TW-C305, Washington, DC.

SUPPLEMENTARY INFORMATION: This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Jeannie Grimes at the address under FOR FURTHER INFORMATION CONTACT, stated above.

Proposed Agenda

Tuesday, May 23, 2000

1. Approval of April 25-26, 2000 meeting minutes.

2. North American Number Plan Administration (NANPA) Report.

3. North American Numbering Plan Administration (NANPA) Oversight Working Group Report. Presentation of 1999 NANPA annual performance review.

4. Numbering Resource Optimization (NRO) Working Group Report.

5. Industry Numbering Committee (INC) Report.

6. Ad Hoc Voluntary UNP Study Group Report. Status of business rule model.

7. Local Number Portability Administration (LNPA) Working Group Report. Updates on wireless wireline integration; Problem Identification Management (PIM); NPAC/SMC release status, and Slow Horse.

8. Assumptions Issue Management Group (IMG) final report for NANC review and approval.

9. Limited Liability Corporations (LLCs) and Number Portability Administration Centers (NPAC) activity update.

10. North American Billing and Collection (NBANC) Update.

Wednesday, May 24, 2000

11. Steering Group Report.

12. Industry Numbering Committee Report.

13. Number Pooling IMG Report. Update on May 2, 2000, meeting with FCC regarding the thousand block pooling administration technical requirements, Numbering Resource Optimization Report and Order (NRO R&O), CC Docket 99-200 (paragraph 155).

14. Cost Recovery Working Group Report. Status of cost estimates (NRO R&O paragraph 56).

15. Public Participation (5 minutes each, if any).

16. Other Business.

17. Action Items and Decisions Reached.

Federal Communications Commission.
Diane Griffin Harmon,
Deputy Chief, Network Services Division, Common Carrier Bureau.

[FR Doc. 00-11645 Filed 5-8-00; 8:45 am]

BILLING CODE 6712-01-U